DEPARTMENT OF COMMERCE

National Oceanic and Atmospheric Administration

[I.D. 062805D]

Fisheries of the South Atlantic, Gulf of Mexico, and Caribbean; Southeastern Data, Assessment, and Review (SEDAR) Steering Committee Meeting.

AGENCY: National Marine Fisheries Service (NMFS), National Oceanic and Atmospheric Administration (NOAA), Commerce.

ACTION: Notice of SEDAR Steering Committee Meeting.

SUMMARY: The SEDAR Steering Committee will meet to discuss the SEDAR process, assessment scheduling, and management coordination.

DATES: The SEDAR Steering Committee meeting will be held on August 2 and August 3, 2005. The Committee will meet from 10 a.m. to 5 p.m. on August 2, 2005 and 9 a.m. to 4 p.m. on August 3, 2005.

ADDRESSES: The SEDAR Steering Committee will meet at the Southeast Regional Office (SERO), 263 13th Avenue South, St. Petersburg, FL 33702; telephone: (305) 824-5301.

Council address: South Atlantic Fishery Management Council, One Southpark Circle, Suite 306, Charleston, SC 29407.

FOR FURTHER INFORMATION CONTACT: John Carmichael, SEDAR Coordinator, SEDAR/SAFMC, One Southpark Circle, Suite 306, Charleston, SC 29407; telephone: (843) 571-4366, (866) SAFMC-10; fax: (843) 769-4520; email: John.Carmichael@safmc.net.

SUPPLEMENTARY INFORMATION: The South Atlantic, Gulf of Mexico, and Caribbean Fishery Management Councils in conjunction with NOAA Fisheries, the Atlantic States Marine Fisheries Commission, and the Gulf States Marine Fisheries Commission implemented the Southeast Data, Assessment and Review (SEDAR) process, a multi-step method for determining the status of fish stocks. SEDAR activities are conducted through committees established by the Councils under their 302(g) authority.

The SEDAR Steering Committee is composed of the Executive Directors and Chairs of the 3 Caribbean, Gulf, and South Atlantic Fishery Management Councils, the Executive Directors of the Gulf States and Atlantic States Marine Fisheries Commissions, the Southeast Regional Administrator, and the Southeast Fisheries Science Center Director. The Steering Committee provides coordination and integration of the management, assessment, and research activities in the Southeast Region.

The SEDAR Steering Committee will meet to review the SEDAR process, develop assessment priorities for 2009-10, review research and monitoring priorities, review scheduled regional management activities, and develop an appropriate work plan.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the South Atlantic Fishery Management Council office or the Southeast Regional Office at the addresses listed above at least 10 business days prior to the meeting.

Dated: June 29, 2005.
Emily Menashes,
Acting Director, Office of Sustainable Fisheries, National Marine Fisheries Service.

[FR Doc. E5-3546 Filed 7-5-05; 8:45 am]

BILLING CODE 3510-22-S